INTERNATIONAL TRADE COMMISSION

[Investigation No. 731-TA-1088 (Preliminary) (Remand)]

Polyvinyl Alcohol From Taiwan

AGENCY: United States International Trade Commission.

ACTION: Notice of remand proceedings.

SUMMARY: The U.S. International Trade Commission (“Commission”) hereby gives notice of the court-ordered remand of its preliminary determination in the antidumping Investigation No. 731-TA-1088 concerning polyvinyl alcohol from Taiwan. For further information concerning the conduct of this proceeding and rules of general application, consult the Commission's Rules of Practice and Procedure, part 201, subparts A through E (19 CFR part 201), and part 207, subpart A (19 CFR part 207).

DATES: Effective Date: March 2, 2007.

FOR FURTHER INFORMATION CONTACT: George Deyman, Office of Investigations, telephone 202-205-3197, or Mary Jane Alves, Office of General Counsel, telephone 202-708-2969, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of Investigation No. 731-TA-1088 may be viewed on the Commission's electronic docket (“EDIS”) at http://edis.usitc.gov.

SUPPLEMENTARY INFORMATION: Background.—In October 2004, the Commission determined that there was no reasonable indication that a U.S. industry was materially injured or threatened with material injury by reason of imports of certain polyvinyl alcohol from Taiwan that were allegedly sold in the United States at less than fair value. The Commission's determination was appealed to the CIT. The CIT issued an opinion in the matter on January 29, 2007. Celanese Chemicals, Ltd. v. United States, Slip Op. 07-16 (Ct. Int'l Trade Jan. 29, 2007). In its opinion, the CIT remanded the matter to the Commission for further proceedings not inconsistent with that opinion.

Participation in the proceeding.—Only those persons who were interested parties to the original investigation (i.e., persons listed on the Commission Secretary's service list) and were parties to the appeal may participate in the remand proceeding. Such persons need not make any additional filings with the Commission to participate in the remand proceeding. Business proprietary information (“BPI”) referred to during the remand proceeding will be governed, as appropriate, by the administrative protective order issued in the original investigation.

Written submissions.—The Commission is not reopening the record in this proceeding for submission of new factual information. The Commission will, however, permit the parties to file comments solely pertaining to the inquiries that are the subject of the CIT's remand instructions. Comments should be limited to no more than twenty (20) double-spaced and single-sided pages of textual material. The parties may not submit any new factual information and may not address any issue other than the inquiries that are the subject of the CIT's remand instructions. Any such comments must be filed with the Commission no later than March 12, 2007.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

By order of the Commission.
Issued: March 2, 2007.
Marilyn R. Abbott,
Secretary to the Commission.

[FR Doc. E7-4145 Filed 3-7-07; 8:45 am]

BILLING CODE 7020-02-P